ENVIRONMENTAL PROTECTION AGENCY

40 CFR Part 271

[EPA-R07-RCRA-2012-0719; FRL-9744-4]

Missouri: Final Authorization of State Hazardous Waste Management Program Revisions

AGENCY: Environmental Protection Agency (EPA).

ACTION: Direct final rule.

SUMMARY: The Solid Waste Disposal Act, as amended, commonly referred to as the Resource Conservation and Recovery Act (RCRA), allows the Environmental Protection Agency (EPA) to authorize states to operate their hazardous waste management programs in lieu of the Federal program. Missouri has applied to EPA for final authorization of the changes to its hazardous waste program under RCRA. EPA has determined that these changes satisfy all requirements needed to qualify for final authorization and is authorizing the State's changes through this immediate final action.

DATES: This Final authorization will become effective on December 26, 2012 unless EPA receives adverse written comment by November 26, 2012. If EPA receives such comment, it will publish a timely withdrawal of this immediate final rule in the Federal Register and inform the public that this authorization will take effect.

ADDRESSES: Submit your comments, identified by Docket ID No. EPA-R07-RCRA-2012-0719, by one of the following methods:

1. www.regulations.gov. Follow the on-line instructions for submitting comments.

2. Email: jackson-johnson.berla@epa.gov.

3. Mail or Hand Delivery: Berla Jackson-Johnson, Environmental Protection Agency, Waste Enforcement and Materials Management Branch, 11201 Renner Blvd., Lenexa, Kansas 66219.

Instructions: Direct your comments to Docket ID No. EPA-R07-RCRA-2012-0719. EPA's policy is that all comments received will be included in the public docket without change and may be made available online at www.regulations.gov, including any personal information provided, unless the comment includes information claimed to be Confidential Business Information (CBI) or other information whose disclosure is restricted by statute. Do not submit through www.regulations.gov or email information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information whose disclosure is restricted by statute will not be publically available. Certain other material, such as copyrighted material, will be publicly available only in hard copy form. Publicly available docket materials are available either electronically in www.regulations.gov or in hard copy at the Environmental Protection Agency, RCRA Enforcement and State Programs Branch, 11201 Renner Blvd., Lenexa, Kansas 66219. The Regional Office's official hours of business are Monday through Friday, 8:00 to 4:30 excluding Federal holidays. The interested persons wanting to examine these documents should make an appointment with the office at least 24 hours in advance.

FOR FURTHER INFORMATION CONTACT: Berla Jackson-Johnson, AWMD WEMM, RCRA Enforcement and State Programs Branch, U.S. EPA Region VII, 11201 Renner Blvd., Lenexa, Kansas 66219, phone number (913) 551-7720; email address: Jackson-Johnson.Berla@epamail.epa.gov.

SUPPLEMENTARY INFORMATION:

Table of Contents

A. Why are revisions to state program necessary?

B. What decisions has EPA made in this rule?

C. What is the effect of today's authorization decision?

D. Why wasn't there a proposed rule published before this rule?

E. What happens if EPA receives comments that oppose this action?

F. What has Missouri previously been authorized for?

G. What revisions are we authorizing with this action?

1. Program Revision Changes for Federal Rules

H. Where are the revised missouri rules different from the federal rule?

1. Rules for Which Missouri is not Seeking Authorization.

2. More Stringent Missouri Rules.

I. Who handles permits after the authorization takes effect?

J. How does this action affect Indian country (18 U.S.S. 115) in Missouri?

K. What is codification and is EPA codifying Missouri's hazardous waste program as authorized in this rule?

A. Why are revisions to state programs necessary?

States that have received final authorization from EPA under RCRA section 3006(b), 42 U.S.C. 6926(b), must maintain a hazardous waste program that is equivalent to, consistent with and no less stringent that the Federal program. As the Federal program changes, a state must change its program accordingly and ask EPA to authorize the changes. Changes to state programs may be necessary when Federal or state statutory or regulatory authority is modified or when certain other changes occur. Most commonly, the state must change its program because of changes to EPA's regulations in 40 Code of Federal Regulations parts 124, 260 through 266, 268, 270, 273, and 279.

B. What decisions has EPA made in this rule?

EPA concludes that Missouri's application to revise its authorized program meets all of the statutory and regulatory requirements established by RCRA. Therefore, EPA grants Missouri final authorization to operate its hazardous waste program with the changes described in the authorization application. Missouri has responsibility for permitting Treatment, Storage, and Disposal Facilities (TSDFs) within its borders, except in Indian Country, and for carrying out the aspects of the RCRA program described in its revised program application, subject to the limitations of the Hazardous and Solid Waste Amendments of 1984 (HSWA). New Federal requirements and prohibitions imposed by Federal regulations that EPA promulgates under the authority of HSWA take effect in authorized states before they are authorized for the requirements. Thus, EPA will implement those requirements and prohibitions in Missouri, including issuing permits, until Missouri is granted authorization to do so.

C. What is the effect of today's authorization decision?

This decision serves to authorize revisions to Missouri's authorized hazardous waste program. This action does not impose additional requirements on the regulated community because the regulations for which Missouri is being authorized by this action are already effective and are not changed by this action. Missouri has enforcement responsibilities under its state hazardous waste program for violations of its program, but EPA retains its authority under RCRA sections 3007, 3008, 3013, and 7003, which include, among others, authority to:

• Perform inspections, and require monitoring, tests, analyses or reports;

• Enforce RCRA requirements and suspend or revoke permits; and

• Take enforcement actions regardless of whether Missouri has taken its own actions.

D. Why wasn't there a proposed rule published before this rule?

EPA did not publish a proposal before today's rule because EPA views this as a routine program change and we do not expect comments that oppose this approval. We are providing an opportunity for public comment now. In addition to this rule, in the proposed rules section of today's Federal Register we are publishing a separate document that proposes to authorize Missouri's program revisions. If EPA receives comments that oppose this authorization, that document will serve as a proposal to authorize the revisions to Missouri's program that were the subject of adverse comment.

E. What happens if EPA receives comments that oppose this action?

If EPA receives comments that oppose this authorization, EPA will withdraw this rule by publishing a document in the Federal Register before the rule becomes effective. EPA will base any further decision on the authorization of the state program revisions on the proposal mentioned in the previous section. EPA will then address all public comments in a later final rule. You may not have another opportunity to comment. If you want to comment on this authorization, you must do so at this time. If EPA receives comments that oppose the authorization of a particular revision to Missouri's hazardous waste program, we will withdraw that part of this rule, but the authorization of the program revisions that the comments do not oppose will become effective on the date specified above. The Federal Register withdrawal document will specify which part of the authorization will become effective, and which part is being withdrawn.

F. What has Missouri previously been authorized for?

Initially, Missouri received final authorization to implement its hazardous waste management program effective December 4, 1985 (50 FR 47740). EPA granted authorization for revisions to Missouri's regulatory program on February 27, 1989, effective April 28, 1989 (54 FR 8190); January 11, 1993, effective March 12, 1993 (58 FR 3497); and on May 30, 1997, effective July 30, 1997, (62 FR 29301) (document to correct the effective date of the rule to be consistent with section 801 and 808 of the Congressional Review Act, enacted as part of the Small Business Regulatory Enforcement Fairness Act). Additionally, the State adopted and applied for interim authorization for the corrective action portion of the HSWA Codification Rule (July 15, 1985, 50 FR 28702). For a full discussion of the HSWA Codification Rule, the reader is referred to the Federal Register cited above. The State was granted interim authorization for the corrective action on May 4, 1999, effective July 6, 1999 (64 FR 23780). Missouri received authorization for further revisions to its program on February 28, 2000, effective April 28, 2000 (65 FR 10405; October 1, 2011, effective November 30, 2001 (66 FR 49841); and on April 28, 2006 (71 FR 25079), effective June 27, 2006.

G. What revisions are we authorizing with this action?

On October 6, 2010, Missouri submitted a final complete program revision application, seeking authorization of additional revisions to its program in accordance with 40 CFR 271.21. Missouri's revision application includes regulations that are equivalent to, and no less stringent than revisions to the Federal hazardous waste program, as published in the Code of Federal Regulations as of July 1, 2006, and the final rule published July 28, 2006, (71 FR 42928; effective January 29, 2007).

We now make an immediate final decision, subject to receipt of written comments that oppose this action that Missouri's hazardous waste program revision satisfies all of the requirements necessary to qualify for final authorization. Therefore, EPA grants Missouri's authorization for the following program revisions:

1. Program Revision Changes for Federal Rules

Missouri seeks authority to administer the Federal requirements that are listed in Table 1. This Table lists the Missouri analogs that are being recognized as no less stringent than the analogous Federal requirements. Missouri's regulatory references are to the Missouri Code of State Regulations, Title 10 Division 25, effective June 30, 2009.

The State's statutory authority for the hazardous waste program for which it is seeking authorization is based on the following provisions from the Revised Statutes of Missouri (RSMo), as amended through the 2009 Supplement: Revised Statutes of Missouri, Chapter 260, Section 260.003 and “Missouri Hazardous Waste Management Law” section 260.350 through 260.434. Missouri's authority to incorporate the Federal program is found at RSMo 536.031.

Table 1—Missouri's Analogs to the Federal Requirements
Description of Federal requirement (revision checklists ¹) | Federal Register | Analogous Missouri authority
RCRA Cluster XI
NESHAPS: Final Standards for Hazardous Air Pollutants for Hazardous Waste Combustors, Revision Checklist 188 | 65 FR 42292, 07/10/00; as amended 66 FR 24270, 5/14/01; and 66 FR 35087, 7/03/01 | 10 CSR 25-4.261(2)(D)4; 7.264(1). *10 CSR 25-7.7270(2)(D)6 is excluded from the authorization because Missouri only partially excludes 270.42(j) (see Section H.1.g for discussion).
Chlorinated Aliphatics Listing and LDRs for Newly Identified Wastes, Revision Checklist 189 | 65 FR 67068, 11/8/00 | 10 CSR 25-4.261(1); 7.268(1).
Land disposal Restrictions Phase IV—Deferral for PCBs in Soil, Revision Checklist 190 | 65 FR 81373, 12/26/00 | 10 CSR 25-7.268(1).
Storage, treatment, Transportation and Disposal of Mixed Waste, Revision Checklist 191 | 66 FR 272218, 5/16/01 | 10 CSR 25-7.266(1).
Mixture and Derived—From Rules Revisions, Revision Checklist 192A | 66 FR 27266, 5/16/01 | 10 CSR 25-4.261(1).
Land disposal Restrictions Correction, Revision Checklist 192B | 66 FR 27266, 5/16/01 | 10 CSR 25-7.268(1).
Change of Official EPA Mailing Address, Revision Checklist 193 | 66 FR 34374, 6/28/01 | 10 CSR 25-3.260(1).
RCRA Cluster XII
Mixture and Derived From Rules Revision II, Revision Checklist 194 | 66 FR 50332, 10/3/01; as amended 66 FR 60153, 12/3/01 | 10 CSR 25-4.261(1).
Inorganic Chemical Manufacturing, revision Checklist 195 | 66 FR 27266, 5/16/01 | 10 CSR 25-4.261(1).
CAMU Amendments, Revision Checklist 196 | 67 FR 2962, 1/22/02 | 10 CSR 25-3.260(1).
Hazardous Air Pollutant Standards for Combustors: Interim Standards, Revision checklist 197 | 67 FR 6792, 2/13/02 | 10 CSR 25-7.264(1); 7.265(1); 7.270(1)*.
RCRA Cluster XIII
National Treatment Variance for Radioactively Contaminated Batteries, Revision Checklist 201 | 67 FR 62618, 10/07/02 | 10 CSR 25-7.268(1).
NESHAP: Standards for Hazardous Air Pollutants for Hazardous Waste Combustors—Corrections, Revision checklist 202 | 67 FR 77687, 12/19/02 | 10 CSR 25-7.270(1).* *Missouri incorporates by reference the changes to Federal BIFs requirements for which Missouri is not authorized (see Section H.1.b for discussion).
RCRA Cluster XIV
NEXHAP: Surface Coating of Automobiles and Light Duty Trucks, Revision Checklist 205 | 69 FR 22601, 4/26/04 | 10 CSR 25-7.264(1); 7.265(1).
RCRA Cluster XV
Nonwastewaters from Productions of Dyes, Pigments, and Food, Drug and cosmetic Colorants, Revision Checklist 206 | 70 FR 9138, 2/24/05; as amended 70 FR 35032, 6/16/05 | 10 CSR 25-4.261(1); 7.268(1).
Uniform Hazardous Waste Manifest final rules, Revision Checklist 207 | 70 FR 10776; 3/04/05; as amended June 16, 2005 at 70 FR 35034 | 10 CSR 25-3.260(1); 4.261(1); 5.262(1)*; 5.262(2)(B) except (2)(B)3**; 5.262(2)(C); 5.262(2)(E); 5.262(2)(F); 6.263(1)*; 6.263(2)(B1; 5.264(1)*; 7.264(2)(E)1; 5.265(1).*
|  | *Missouri incorporates the Federal provisions by reference without taking into considerations that the state cannot assume authority for certain EPA functions; EPA will continue to implement these functions (see Section H.1.a for discussion).
|  | **10 CSR 25-5.262(2)(B)(3) is not being authorized because it is related to state waste codes for used oil; Missouri is not authorized for the used oil program (see Section H.1.c for discussion).
Testing and Monitoring Activities: Methods Innovation Rule and SW-846 Update IIIB, Revision Checklist 208 | 70 FR 34538, 6/14/05; as amended 70 FR 44150, 8/01/05 | 10 CSR 25-3.260(1); 3.260(2)(c); 4.261(1); 4.261(2)(D)4; 7.264(1); 7.265(1); 7.266(1)*; 7.268(1); 7.270(1).*
|  | *Missouri has incorporated by reference the changes to Federal BIFs requirements for which Missouri is not authorized (see Section H.1.b. for discussion).
|  | ** Missouri has incorporated by reference the changes to 40 CFR Part 279 as indicated on Revision Checklist 208 without modification. However, Missouri cannot be authorized for changes to the used oil requirements because the State is not authorized for the used oil program (see Section H.1.c for discussion).
RCRA Cluster XVI
Revision of Wastewater Treatment Exemptions for Hazardous Waste Mixtures, Revision Checklist 211 | 70 FR 57769, 10/04/05 | 10 CSR 25-4.261(1).
National Emission Standards for Hazardous Air Pollutants: Final Standards for Hazardous Air Pollutants for Hazardous Waste Combustors, Revision Checklist 212 | 70 FR 59401, 10/12/05 | 10 CSR 25-3.260(1); 7.264(1); 7.266(1)*; 7.266(2)(H)1; 7.270(1).* *Missouri has incorporated by reference the changes to Federal BIFs requirements for which Missouri is not authorized (see Section H.1.b for discussion).
|  | **10 CSR 25-7.270(2)(D)6 is excluded from the authorization because Missouri only partially excludes 270.42(j)(see Section H.1.g for discussion).
Burden Reduction Initiative, Revision Checklist 213 | 71 FR 16862, 4/04/06 | 10 CSR 25-3.260(1)**; 4.261(1); 4.261(2)(D)4; 7.264(1)**; 7.264(2)(B)3; 7.264(2)(E)2; 7.264(2)(W); 7.265(1)**; 7.265(2)(B); 7.265(2)(W); 7.266(1)*; 7.268(1); 7.270(1)**; 7.270(2)(D)7.
|  | *Missouri has incorporated by reference the changes to Federal BIFs requirements for which Missouri is not authorized (see Section H.1.b for discussion).
|  | ** Missouri is not being authorized for the definition of “Performance Track member facility”, or the changes made by this final rule relative to the terminated Performance track program at 40 CFR 270.42, Appendix I, Item O (see section H.1.e for discussion).
RCRA Cluster XVII
Cathode Ray Tubes Rule, Revision Checklist 215 | 71 FR 42928, 7/28/06 | 10 CSR 25-3.260(1); 4.261(1)*; 4.261(2)(d)4; 4.261(2)(E)1.
|  | *Missouri incorporates the Federal provisions by reference without taking into consideration that the State cannot assume authority for 40 CFR 261.39(a)(5), which addresses the notification requirements and other EPA functions relative to the exports of CRTs (see Section H.1.a for discussion).
¹ A Revision Checklist is a document that addresses the specific revisions made to the Federal regulations by one or more related final rules published in the Federal Register. EPA develops these checklists as tools to assist states in developing their authorization applications and in documenting specific state analogs to the Federal Regulations. For more information see EPA's RCRA State Authorization Web page at http://www.epa.gov/osw/laws-regs/state/index.htm.

H. Where are the revised Missouri rules different from the Federal rules?

1. Rules for Which Missouri is Not Seeking Authorization

Missouri is not being authorized for the following RCRA revisions that are found in 40 CFR as of July 1, 2006:

(a) Missouri is not seeking authorization for, and has appropriately left authority with EPA, for the majority of the non-delegable Federal rules that address specific functions for which EPA must retain authority, including treatment standards variances at 40 CFR 268.44(a)-(g) and hazardous waste imports and exports (40 CFR part 262, subparts E and H and other related requirements). However, Missouri has not left authority to EPA for the non-delegable provisions at: 40 CFR 261.39(a)(5)(exports of cathode ray tubes); 40 CFR 262.21 (Manifest Registry); 40 CFR 262.60(c), (d) and (e) (40 CFR part 262, subpart F export requirements); and 40 CFR 263.20(g)(4), 264.71(a)(3), and 265.71(a)(3)(Manifest copies for imports and exports of hazardous waste). EPA will continue to implement these requirements as appropriate.

(b) Missouri has adopted but has sought formal authorization and is not being authorized for the portions of the Federal program addressing the Burning of Hazardous Waste in Boilers and Industrial Furnaces (BIFs) that were introduced into the Federal code by a February 21, 1991 final rule (56 FR 7134; Revision Checklist 85) and subsequently amended by the following Federal rules: July 17, 1991 (56 FR 32688; revision Checklist 94); August 27, 1991 (56 FR 42504; Revision Checklist 96); September 5, 1991 (56 FR 43874; Revision Checklist 98); August 25, 1992 (57 FR 38558; Revision Checklist 111); September 30, 1992 (57 FR 44999; Revision Checklist 114); November 9, 1993 (58 FR 59598; Revision Checklist 127); and April 15, 1998 (63 FR 18504; Revision Checklist 164). As noted in the table in Section G, several of the final rules for which Missouri is receiving authorization address hazardous waste combustors and affect provisions from 40 CFR part 266, subpart H, 270.22 and 270.66 that apply to the requirements for boilers and industrial furnaces. Missouri is not receiving authorization for these BIF provisions as part of this authorization.

(c) Missouri has adopted but has not sought formal authorization and is not being authorized for the Universal Waste and Oil programs (40 CFR parts 273 and 279) as addressed by the following final rules: Used Oil—September 10, 1992 (57 FR 41566; Revision Checklist 112); May 13, 1993 as amended on June 17, 1993 (58 FR 26420 and 58 FR 33341; Revision Checklist 122); March 4, 1994 (59 FR 10550; Revision Checklist 130); May 6, 1998 as amended on July 14, 1998 (63 FR 24963 and 63 FR 37780; Revision Checklist 166); and July 30, 2003 (68 FR 44659; Revision Checklist 203); and Universal Waste—May 11, 1995 (60 FR 25492; Revision Checklist 142A- E); December 24, 1998 (63 FR 71225 Revision Checklist 176); July 6, 1999 (64 FR 36466; Revision Checklist 181); and August 5, 2005 (70 FR 45508; Revision Checklist 209).

(d) Missouri has adopted but has not sought formal authorization and is not being authorized for the RCRA Expanded Public Participation requirements introduced by the final rule published on December 11, 1995 (60 FR 63417; Revision Checklist 148).

(e) Missouri is not seeking authorization for the National Environmental Performance Track Program (April 22, 2004, 69 FR 21737; as amended October 25, 2004, 69 FR 62217; Revision Checklist 204). On May 14, 2009, EPA terminated the National Performance Track Program. In addition, Missouri has adopted but is not being authorized for the April 4, 2006 (71 FR 16862; revision Checklist 213) changes relative to the Performance Track program.

(f) Missouri has chosen not to adopt nor seek authorization for the final rules that make up the Wood Preserving Listings; however, in its incorporation by reference of 40 CFR part 261 at 10 CSR 25-4.261(1), Missouri has not excluded the changes addressed by the following Wood Preserving Listings final rules: July 1, 1991 (56 FR 30192; Revision Checklist 92), December 24, 1992 (57 FR 61492; Revision Checklist 120) and May 26, 1998 (63 FR 28556; Revision Checklist 167F). Similarly, Missouri has not excluded the final rule addressed by Revision Checklist 92 from its incorporation by reference of 40 CFR part 262 at 10 CSR 25-5.262(1).

(g) At 10 CSR 25-7.270(2)(D)6., Missouri excludes 40 CFR 270.42(j)(1) and (j)(2) from the incorporation by reference of 40 CFR part 270. To be consistent with the Federal program, Missouri needs to amend the language at 10 CSR 25-7.270(2)(D)6 to exclude the entire 270.42(j). Due to this error the Missouri provision is being excluded from the authorization of the final rules addressed by Revision Checklists 188 and 212.

2. More Stringent Missouri Rules

The Missouri hazardous waste program contains some provisions that are more stringent than is required by the RCRA program as codified in the July 1, 2006 edition of title 40 of the Code of Federal Regulations. These more stringent provisions are being recognized as a part of the Federally-authorized program. The specific more stringent provisions are also noted in Missouri's authorization application. They include, but are not limited to, the following:

(a) At 10 CSR 25-5.262(2)(B) 1 and 2, Missouri is more stringent because the State requires generators to list the Missouri-specific acute hazardous waste code MH01 or MH02, as applicable, for wastes that are not regulated as acute hazardous wastes under the Federal program.

(b) At 10 CSR 25-5.262(2)(E), Missouri is more stringent in that the State requires that all documents sent to EPA in compliance with 40 CFR 262.54(c) and (e), also be sent to the Missouri Department of Natural Resources.

(c) At 10 CSR 25-5.262(2)(F), Missouri is more stringent because it includes several state-specific requirements with which United States importers must also comply including registering as a Missouri generator and additional recordkeeping requirements.

(d) At 10 CSR 25-6.263(2)(B)1, Missouri has adopted language in lieu of the Federal provisions at 40 CFR 263.20(a) that is more stringent than the Federal language including requirements related to the licensing of transporters and recordkeeping requirements for conditionally exempt small quantity generator waste.

(e) At 10 CSR 25-7.264(2)(E)1 and 2, in addition to the Federal requirements incorporated by reference at 10 CSR 25-7.264(1), Missouri is more stringent in that the state requires additional recordkeeping requirements for Treatment Storage and Disposal Facilities including the requirement to submit copies of manifests to the State.

I. Who handles permits after the authorization takes effect?

After authorization, Missouri will issue permits for all the provisions for which it is authorized and will administer the permits issues. EPA will continue to administer any RCRA hazardous waste permits or portions of permits that we issued prior to the effective date of this authorization. Until such time as formal transfer of EPA permit responsibility to Missouri occurs and EPA terminates its permit, EPA and Missouri agree to coordinate the administration of permits in order to maintain consistency. We will not issue any more new permits or new portions of permits for the provisions listed in Section G after the effective date of this authorization. EPA will continue to implement and issue permits for HSWA requirements for which Missouri is not yet authorized.

J. How does this action affect Indian country (18 U.S.S. 115) in Missouri?

Missouri is not seeking authorization to operate the program on Indian lands, since there are no Federally-recognized Indian lands in Missouri.

K. What is codification and is EPA Codifying Missouri's hazardous waste program as authorized in this rule?

Codification is the process of placing the State's statutes and regulations that comprise the State's authorized hazardous waste program into the Code of Federal Regulations. EPA does this by referencing the authorized State rules in 40 CFR part 272. EPA reserves the amendment of 40 CFR 272, subpart AA for this authorization of Missouri's program changes until a later date.

Statutory and Executive Order Reviews

The Office of Management and Budget has exempted this action from the requirements of Executive Order 12866 (58 FR 51735, October 4, 1993), and therefore this action is not subject to review by OMB. This action authorizes state requirements for the purpose of RCRA 3006 and imposes no additional requirements beyond those imposed by state law. Accordingly, I certify that this action will not have a significant economic impact on a substantial number of small entities under the Regulatory Flexibility Act (5 U.S.C. 601 et seq.). Because this action authorizes pre-existing requirements under state law and does not impose any additional enforceable duty beyond that required by state law, it does not contain any unfunded mandate or significantly or uniquely affect small governments, as described in the Unfunded Mandates Reform Act of 1995 (Pub. L. 104-4). For the same reason, this action would not significantly or uniquely affect the communities of Tribal governments, as specified by Executive Order 13175 (65 FR 67249, November 9, 2000). In any case, Executive Order 13175 does not apply to this rule since there are no Federally-recognized tribes in the State of Missouri.

This action will not have substantial direct effects on the states, on the relationship between the national government and the states, or on the distribution of power and responsibilities among the various levels of government, as specified in Executive Order 13132 (64 FR 43255, August 10, 1999), because it merely authorizes state requirements as part of the State RCRA hazardous waste program without altering the relationship or the distribution of power and responsibilities established by RCRA. This action also is not subject to Executive Order 13045 (62 FR 19885, April 23, 1997), because it is not economically significant and it does not make decisions based on environmental health or safety risks that may disproportionately affect children. This rule is not subject to Executive Order 13211, “Actions Concerning Regulations That Significantly Affect Energy Supply, Distribution, or Use” (66 FR 28355, May 22, 2001) because it is not a significant regulatory action under Executive Order 12866.

Under RCRA 3006(b), EPA grants a state's application for authorization as long as the state meets the criteria required by RCRA. It would thus be inconsistent with applicable law for EPA, when it reviews a state authorization application to require the use of any particular voluntary consensus standard, in place of another standard that otherwise satisfies the requirements of RCRA. Thus, the requirements of section 12(d) of the National Technology Transfer and Advancement Act of 1995 (15 U.S.C. 3701, et seq.) do not apply. As required by section 3 of Executive Order 12988 (61 Fr 4729, February 7, 1996), in issuing this rule, EPA has taken the necessary steps to eliminate drafting errors and ambiguity, minimize potential litigation, and provide a clear legal standard for affected conduct. EPA has complied with Executive Order 12630 (53 FR 8859, March 18, 1988) by examining the takings implications of the rule in accordance with the Attorney General's Supplemental Guidelines for the Evaluation of Risk and Avoidance of Unanticipated Takings issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this document and other required information to the U.S. Senate, the U.S. House of representatives and the Comptroller General of the United States. EPA will submit a report containing this document and other required information to the U.S. Senate, the U. S. House of Representatives, and the comptroller General of the United States prior to publication in the Federal Register. A major rule cannot take effect until 60 days after it is published in the Federal Register. This is not a “major rule” as defined by U.S.C. 804(2); this action will be effective December 26, 2012.

List of Subjects in 40 CFR Part 271

Environmental protection, Administrative practice and procedure, Confidential business information, Hazardous waste, Hazardous waste transportation, Indian lands, Intergovernmental relations, Penalties, Reporting and recordkeeping requirements.

Authority: This action is issued under the authority of sections 202(a), 3006 and 7004(b) of the Solid Waste Disposal Act, as amended, 42 U.S.C. 6912(a), 6926, 6974(b).

Dated: October 11, 2012.
Karl Brooks,
Regional Administrator, Region 7.

[FR Doc. 2012-26430 Filed 10-25-12; 8:45 am]

BILLING CODE 6560-50-P